Title 3—

The President

Proclamation 7325 of June 29, 2000

To Modify Duty-Free Treatment Under the Generalized

System of Preferences and for Other Purposes

By the President of the United States of America

A Proclamation

1. Pursuant to sections 501, 503(a)(1)(A), and 503(c)(1) of title V of the Trade Act of 1974, as amended (the “1974 Act”) (19 U.S.C. 2461, 2463(a)(1)(A), and 2463(c)(1)), the President may designate or withdraw designation of specified articles provided for in the Harmonized Tariff Schedule of the United States (HTS) as eligible for preferential tariff treatment under the Generalized System of Preferences (GSP) when imported from designated beneficiary developing countries.

2. Pursuant to section 503(c)(2)(A) of the 1974 Act (19 U.S.C. 2463(c)(2)(A)), beneficiary developing countries, except those designated as least-developed beneficiary developing countries pursuant to section 503(c)(2)(D) of the 1974 Act (19 U.S.C. 2463(c)(2)(D)), are subject to competitive need limitations on the preferential treatment afforded under the GSP to eligible articles.

3. Pursuant to section 503(c)(2)(C) of the 1974 Act (19 U.S.C. 2463(c)(2)(C)), a country that is no longer treated as a beneficiary developing country with respect to an eligible article may be redesignated as a beneficiary developing country with respect to such article if imports of such article from such country did not exceed the competitive need limitations in section 503(c)(2)(A) (19 U.S.C. 2463(c)(2)(A)) during the preceding calendar year.

4. Pursuant to section 503(c)(2)(F) of the 1974 Act (19 U.S.C. 2463(c)(2)(F)), the President may disregard the competitive need limitation provided in section 503(c)(2)(A)(i)(II) of the 1974 Act (19 U.S.C. 2463(c)(2)(A)(i)(II)) with respect to any eligible article if the appraised value of the total imports of such article into the United States during the preceding calendar year does not exceed an amount set forth in section 503(c)(2)(F)(ii) of the 1974 Act (19 U.S.C. 2463(c)(2)(F)(ii)).

5. Pursuant to section 503(d) of the 1974 Act (19 U.S.C. 2463(d)), the President may waive the application of the competitive need limitations in section 503(c)(2)(A) with respect to any eligible article from any beneficiary developing country if certain conditions are met.

6. Pursuant to section 503(c)(2)(E) of the 1974 Act (19 U.S.C. 2463(c)(2)(E)), section 503(c)(2)(A)(i)(II) shall not apply with respect to any eligible article if a like or directly competitive article was not produced in the United States on January 1, 1995.

7. Pursuant to sections 501 and 503(a)(1)(A) of the 1974 Act, and after receiving advice from the International Trade Commission in accordance with section 503(e), I have determined to designate certain articles, previously designated under section 503(a)(1)(B), as eligible articles when imported from any beneficiary developing country.

8. Pursuant to section 503(c)(1) of the 1974 Act, I have determined to limit the application of duty-free treatment accorded to certain articles from certain beneficiary developing countries.

9. Pursuant to section 503(c)(2)(A) of the 1974 Act, I have determined that certain beneficiary countries should no longer receive preferential tariff treatment under the GSP with respect to certain eligible articles imported in quantities that exceed the applicable competitive need limitation.

10. Pursuant to section 503(c)(2)(C) of the 1974 Act, I have determined that certain countries should be redesignated as beneficiary developing countries with respect to certain eligible articles that previously had been imported in quantities exceeding the competitive need limitations of section 503(c)(2)(A).

11. Pursuant to section 503(c)(2)(F) of the 1974 Act, I have determined that the competitive need limitation provided in section 503(c)(2)(A)(i)(II) should be waived with respect to certain eligible articles from certain beneficiary developing countries.

12. Pursuant to section 503(d) of the 1974 Act, I have determined that the competitive need limitations of section 503(c)(2)(A) should be waived with respect to certain eligible articles from certain beneficiary developing countries. I have received the advice of the International Trade Commission on whether any industries in the United States are likely to be adversely affected by such waivers, and I have determined, based on that advice and on the considerations described in sections 501 and 502(c), that such waivers are in the national economic interest of the United States.

13. Pursuant to section 503(c)(2)(E) of the 1974 Act (19 U.S.C. 2463(c)(2)(E)), I have determined that the limitation provided for in section 503(c)(2)(A)(i)(II) shall not apply with respect to HTS subheading 3817.10.50 because no like or directly competitive article was produced in the United States on January 1, 1995.

14. Section 604 of the 1974 Act, as amended (19 U.S.C. 2483), authorizes the President to embody in the HTS the substance of the relevant provisions of that Act, and of other acts affecting import treatment, and actions thereunder, including the removal, modification, continuance, or imposition of any rate of duty or other import restriction.

NOW, THEREFORE, I, WILLIAM J. CLINTON, President of the United States of America, acting under the authority vested in me by the Constitution and the laws of the United States of America, including but not limited to title V and section 604 of the 1974 Act, do proclaim that:

(1) In order to provide that one or more countries that have not been treated as beneficiary developing countries with respect to one or more eligible articles should be designated as beneficiary developing countries with respect to such article or articles for purposes of the GSP, and that one or more countries should no longer be treated as beneficiary developing countries with respect to one or more eligible articles for purposes of the GSP, general note 4(d) to the HTS is modified as provided in section A of Annex I to this proclamation.

(2)(a) In order to designate certain articles as eligible articles for purposes of the GSP when imported from any beneficiary developing country, the Rates of Duty 1-Special subcolumn for certain HTS subheadings is modified as provided in section B(1) of Annex I to this proclamation.

(b) In order to provide preferential tariff treatment under the GSP to a beneficiary developing country that has been excluded from the benefits of the GSP for certain eligible articles, the Rates of Duty 1-Special subcolumn for each of the HTS subheadings enumerated in section B(2) of Annex I to this proclamation is modified as provided in such section.

(c) In order to provide that one or more countries should not be treated as a beneficiary developing country with respect to certain eligible articles for purposes of the GSP, the Rates of Duty 1-Special subcolumn for each of the HTS subheadings enumerated in section B(3) of Annex I to this proclamation is modified as provided in such section.

(3) A waiver of the application of section 503(c)(2)(A) of the 1974 Act shall apply to the eligible articles in the HTS subheadings and to the beneficiary developing countries set forth in Annex II to this proclamation.

(4) Any provisions of previous proclamations and Executive Orders that are inconsistent with the actions taken in this proclamation are superseded to the extent of such inconsistency.

(5)(a) The modifications made by Annex I to this proclamation shall be effective with respect to articles entered, or withdrawn from warehouse for consumption, on or after July 1, 2000.

(b) The action taken in Annex II to this proclamation shall be effective on the date of publication of this proclamation in the Federal Register.

(c) The action taken in paragraph 13 of this proclamation shall be effective on the date of publication of this proclamation in the Federal Register.

IN WITNESS WHEREOF, I have hereunto set my hand this twenty-ninth day of June, in the year of our Lord two thousand, and of the Independence of the United States of America the two hundred and twenty-fourth.

wj

Billing code 3195-01-P

Annex I

| Modifications to the Harmonized Tariff Schedule of the United States (HTS)
| Effective with respect to articles entered, or withdrawn from warehouse for consumption, on or after July 1, 2000.
| Section A. General note 4(d) to the Harmonized Tariff Schedule of the United States (HTS) is modified by:
| (1). deleting the following subheadings and the country set out opposite such subheadings:

| 0811.20.40 Chile |  | 7202.50.00 Russia
| 1701.91.10 Brazil |  |

| (2). adding, in numerical sequence, the following provisions and countries set out opposite them:

| 0713.90.80 India |  | 5007.90.30 India
| 0714.90.45 Costa Rica |  | 5702.39.10 India
| 1102.90.30 El Salvador |  | 6302.99.10 India
| 2001.90.45 India |  | 7113.19.25 India
| 2008.19.25 Peru |  | 7113.20.25 India
| 2008.99.45 Dominican Republic |  | 7418.19.10 India
| 4010.19.50 Brazil |  | 8211.95.50 Pakistan
| 4104.39.20 India |  | 8450.90.20 Ecuador
| 4412.92.40 Ecuador |  | 8708.99.67 Brazil

| (3). adding, in alphabetical order, the country or countries set out opposite the following subheadings:

| 0714.20.10 Colombia |  | 2008.50.20 Turkey
| 1602.50.20 Brazil |  | 2905.42.00 Brazil
| 1702.30.22 Jamaica |  | 3212.90.00 Colombia
| 2004.10.40 Peru |  | 4106.20.30 Pakistan
| 2008.19.30 Turkey |  | 7801.99.30 Colombia

| Section B. Each enumerated article's preferential tariff treatment under the Generalized System of Preferences (GSP) in the HTS is modified as provided in this section.
| (1). For subheadings 7202.99.10 and 8104.30.00, the Rates of Duty 1-Special subcolumn is modified by deleting the symbol “A+” and inserting an “A” in lieu thereof.
| (2). For the following subheadings, the Rates of Duty 1-Special subcolumn is modified by deleting the symbol “A*” and inserting an “A” in lieu thereof.

| 0811.20.40 |  |
| 1701.91.10 |  |
| 7202.50.00 |  |

| (3). For the following provisions, the Rates of Duty 1-Special subcolumn is modified by deleting the symbol “A” and inserting an “A*” in lieu thereof:

| 0713.90.80 | 2008.19.25 | 4412.92.40 | 7113.19.25 | 8450.90.20
| 0714.90.45 | 2008.99.45 | 5007.90.30 | 7113.20.25 | 8708.99.67
| 1102.90.30 | 4010.19.50 | 5702.39.10 | 7418.19.10 |
| 2001.90.45 | 4104.39.20 | 6302.99.10 | 8211.95.50 |

Annex II

| Harmonized Tariff Schedule of the United States (HTS)
| Subheadings and Countries Granted Waivers of the Application of Section 503(c)(2)(A) of the 1974 Act

| HTS Subheading | Country |
| 7202.50.00 | Russia |
| 7202.99.10 | Brazil |

[FR Doc. 00-17012

Filed 6-30-00; 10:55 am]

Billing code 3190-01-P